NATIONAL SCIENCE FOUNDATION

Sunshine Act Meetings; Notice

The National Science Board's ad hoc Committee Regarding Recommendations for NSF Director, pursuant to NSF regulations (45 CFR Part 614), the National Science Foundation Act, as amended (42 U.S.C. 1862n-5), and the Government in the Sunshine Act (5 U.S.C. 552b), hereby gives notice in regard to the scheduling of a meeting for the transaction of National Science Board business, as follows:

DATE AND TIME: Wednesday, February 13, 2013 at 4:30 p.m. EST.

SUBJECT MATTER: Discussion of recommendations for the next NSF Director.

STATUS: Closed.

This meeting will be held by teleconference originating at the National Science Board Office, National Science Foundation, 4201Wilson Blvd., Arlington, VA 22230.

Please refer to the National Science Board Web site (www.nsf.gov/nsb) for information or schedule updates, or contact: Ann Bushmiller, National Science Foundation, 4201Wilson Blvd., Arlington, VA 22230. Telephone: (703) 292-7000.

Ann Bushmiller,
NSB Senior Legal Counsel.

[FR Doc. 2013-03650 Filed 2-12-13; 4:15 pm]

BILLING CODE 7555-01-P